DEPARTMENT OF ENERGY

Federal Energy Regulatory Commission

Combined Notice of Filings #1

Take notice that the Commission received the following electric corporate filings:

Docket Numbers: EC18-51-000.

Applicants: MDU Resources Group, Inc.

Description: Second Supplement to January 31, 2018 Application [Revised Exhibit N] for Authorization Under Section 203 of the Federal Power Act of MDU Resources Group, Inc.

Filed Date: 4/20/18.

Accession Number: 20180420-5055.

Comments Due: 5 p.m. ET 5/11/18.

Take notice that the Commission received the following electric rate filings:

Docket Numbers: ER10-2607-005; ER10-2626-004.

Applicants: Old Dominion Electric Cooperative, TEC Trading, Inc.

Description: Notice of Change in Status of the ODEC Entities.

Filed Date: 4/19/18.

Accession Number: 20180419-5294.

Comments Due: 5 p.m. ET 5/10/18.

Docket Numbers: ER10-3028-003.

Applicants: Elk Hills Power, LLC.

Description: Supplement to March 8, 2018 Notice of Non-Material Change in Status of Elk Hills Power, LLC.

Filed Date: 4/20/18.

Accession Number: 20180420-5155.

Comments Due: 5 p.m. ET 5/11/18.

Docket Numbers: ER17-428-004.

Applicants: Southwest Power Pool, Inc.

Description: Compliance filing: Missouri River Energy Services Member Formula Rate (Vermillion) Compliance to be effective 2/1/2017.

Filed Date: 4/19/18.

Accession Number: 20180419-5208.

Comments Due: 5 p.m. ET 5/10/18.

Docket Numbers: ER18-1403-000.

Applicants: Southwest Power Pool, Inc.

Description: § 205(d) Rate Filing: 3399 Basin Electric and MidAmerican Energy Attachment AO to be effective 4/1/2018.

Filed Date: 4/20/18.

Accession Number: 20180420-5009.

Comments Due: 5 p.m. ET 5/11/18.

Docket Numbers: ER18-1404-000.

Applicants: NS Power Energy Marketing Inc.

Description: Baseline eTariff Filing: Application for Market-Based Rate Authority to be effective 6/20/2018.

Filed Date: 4/20/18.

Accession Number: 20180420-5011.

Comments Due: 5 p.m. ET 5/11/18.

Docket Numbers: ER18-1405-000.

Applicants: Public Service Company of Oklahoma.

Description: § 205(d) Rate Filing: PSO-AEPOTC-WFEC Roosevelt-Steed DPA Amend & Restated to be effective 3/20/2018.

Filed Date: 4/20/18.

Accession Number: 20180420-5032.

Comments Due: 5 p.m. ET 5/11/18.

Docket Numbers: ER18-1406-000.

Applicants: Florida Power & Light Company.

Description: § 205(d) Rate Filing: FPL Amendments to LCEC Rate Schedule No. 317 to be effective 1/1/2017.

Filed Date: 4/20/18.

Accession Number: 20180420-5093.

Comments Due: 5 p.m. ET 5/11/18.

Docket Numbers: ER18-1407-000.

Applicants: Florida Power & Light Company.

Description: § 205(d) Rate Filing: FPL Amendments to FKEC Rate Schedule No. 322 to be effective 1/1/2017.

Filed Date: 4/20/18.

Accession Number: 20180420-5095.

Comments Due: 5 p.m. ET 5/11/18.

Docket Numbers: ER18-1408-000.

Applicants: New York Independent System Operator, Inc.

Description: § 205(d) Rate Filing: Amendments related to solar energy forecasting for the NYCA to be effective 6/20/2018.

Filed Date: 4/20/18.

Accession Number: 20180420-5148.

Comments Due: 5 p.m. ET 5/11/18.

Docket Numbers: ER18-1409-000.

Applicants: MidAmerican Energy Company.

Description: § 205(d) Rate Filing: Interconnection Agreement—MidAmerican and Montezuma to be effective 5/1/2018.

Filed Date: 4/20/18.

Accession Number: 20180420-5150.

Comments Due: 5 p.m. ET 5/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2018.
Nathaniel J. Davis, Sr.,
Deputy Secretary.

[FR Doc. 2018-08832 Filed 4-26-18; 8:45 am]

BILLING CODE 6717-01-P